DEPARTMENT OF STATE

22 CFR Part 120

[Public Notice 4440]

RIN AB-62

Bureau of Political-Military Affairs; Amendment to the International Traffic in Arms Regulations; Corrections

AGENCY: Department of State.

ACTION: Correcting amendments.

SUMMARY: This document makes corrections to the final regulations (Public Notice 4274), which were published in the Federal Register of Friday, February 14, 2003.

EFFECTIVE DATE: Effective on January 29, 2003.

FOR FURTHER INFORMATION CONTACT: Mary Sweeney, Office of Defense Trade Controls Management, Bureau of Political-Military Affairs, Department of State, (202) 663-2700.

SUPPLEMENTARY INFORMATION:

Background

The Department of State published a final rule (Public Notice 4274) in the Federal Register of February 14, 2003, (68 FR 7417), amending § 120.1 General authorities and eligibility, of the International Traffic in Arms Regulations.

Need for Correction

As published, the final regulations contain errors which may prove to be misleading and need to be clarified.

List of Subjects in 22 CFR Part 120

Arms and munitions, Classified information, Exports.

Accordingly, 22 CFR part 120 is corrected by making the following correcting amendments:

PART 120—PURPOSE AND DEFINITIONS

1. The authority citation for part 120 continues to read as follows:

Authority: Secs. 2, 38, and 71, Pub. L. 90-629, 90 Stat. 744 (22 U.S.C. 2752, 2778, 2797); 22 U.S.C. 2794; E.O. 11958, 42 FR 4311; 3 CFR, 1977 Comp. p. 79; 22 U.S.C. 2658; Pub. L. 105-261, 112 Stat. 1920.

2. Revise paragraphs (b)(2) and (b)(2)(ii) of § 120.1 to read as follows:

§ 120.1 General authorities and eligibility.

* * * * *

(b) * * *

(1) * * *

(2) In the Bureau of Political-Military Affairs, there will be a Deputy Assistant Secretary for Defense Trade Controls (DAS—Defense Trade Controls) and a Managing Director of Defense Trade Controls (MD—Defense Trade Controls). Initially, one individual will hold both the DAS—Defense Trade Controls and MD—Defense Trade Controls positions. The position of Director, Office of Defense Trade Controls will be abolished. The DAS—Defense Trade Controls/MD—Defense Trade Controls will assume all duties, responsibilities, and authorities held under the ITAR by that Director. The MD—Defense Trade Controls has responsibility for the Directorate of Defense Trade Controls, which will oversee the subordinate offices described in paragraph (b)(2)(i) of this section.

(i) * * *

(A) * * *

(B) * * *

(C) * * *

(D) * * *

(ii) Further amendments to the ITAR will be promulgated to reflect the specific changes as a result of this realignment.

* * * * *

Dated: August 21, 2003.
Timothy Egert,
Federal Register Liaison, Department of State.

[FR Doc. 03-21804 Filed 8-25-03; 8:45 am]

BILLING CODE 4710-25-P